DEPARTMENT OF LABOR

Employment and Training Administration

[TA-W-73,806]

Multina, USA, Including On-Site Leased Workers From Westaff, Plattsburgh, NY; Amended Certification Regarding Eligibility To Apply for Worker Adjustment Assistance

In accordance with section 223 of the Trade Act of 1974, as amended (“Act”), 19 U.S.C. 2273, the Department of Labor issued a Certification of Eligibility to Apply for Worker Adjustment Assistance on August 10, 2010, applicable to workers of Multina, USA, Plattsburgh, New York. The notice was published in the Federal Register on August 30, 2010 (75 FR 52984).

At the request of the State agency, the Department reviewed the certification for workers of the subject firm. The workers are engaged in employment related to the production of rail car interiors.

New information shows that workers leased from Westaff were employed on-site at the Plattsburgh, New York location of Multina, USA. The Department has determined that these workers were sufficiently under the control of the subject firm to be considered leased workers.

Based on these findings, the Department is amending this certification to include workers leased from Westaff working on-site at the Plattsburgh, New York location of Multina, USA.

The amended notice applicable to TA-W-73,806 is hereby issued as follows:

All workers of Multina, USA, including on-site leased workers from Westaff, Plattsburgh, New York, who became totally or partially separated from employment on or after March 18, 2009, through August 10, 2012, and all workers in the group threatened with total or partial separation from employment on the date of certification through two years from the date of certification, are eligible to apply for adjustment assistance under Chapter 2 of Title II of the Trade Act of 1974, as amended.

Signed at Washington, DC, this 21st day of October 2010.
Elliott S. Kushner,
Certifying Officer, Division of Trade Adjustment Assistance.

[FR Doc. 2010-27389 Filed 10-28-10; 8:45 am]

BILLING CODE 4510-FN-P